FEDERAL ELECTION COMMISSION

Sunshine Act Meetings

FEDERAL REGISTER CITATION OF PREVIOUS ANNOUNCEMENT: 87 FR 24162.

PREVIOUSLY ANNOUNCED TIME AND DATE OF THE MEETING: Thursday, April 28, 2022 at 10:00 a.m.

Hybrid meeting: 1050 First Street NE, Washington, DC (12th Floor) and virtual.

CHANGES IN THE MEETING: The following matter was also considered:

Audit Division Recommendation Memorandum on the UtePAC (A19-07).

CONTACT PERSON FOR MORE INFORMATION: Judith Ingram, Press Officer. Telephone: (202) 694-1220.

Authority: Government in the Sunshine Act, 5 U.S.C. 552b.

Laura E. Sinram,
Acting Secretary and Clerk of the Commission.

[FR Doc. 2022-09667 Filed 5-2-22; 4:15 pm]

BILLING CODE 6715-01-P